AGENCY FOR INTERNATIONAL DEVELOPMENT

Notice of Public Information Collections Being Reviewed by the U.S. Agency for International Development; Comments Requested

SUMMARY: U.S. Agency for International Development (USAID) is making efforts to reduce the paperwork burden. USAID invites the general public and other Federal agencies to take this opportunity to comment on the following proposed and/or continuing information collections, as required by the Paperwork Reduction Act for 1995. Comments are requested concerning: (a) Whether the proposed or continuing collections of information are necessary for the proper performance of the functions of the agency, including whether the information shall have practical utility; (b) the accuracy of the burden estimates; (c) ways to enhance the quality, utility, and clarity of the information collected; and (d) ways to minimize the burden of the collection of information on the respondents, including the use of automated collection techniques or other forms of information technology.

DATES: Submit comments on or before September 7, 2010.

FOR FURTHER INFORMATION CONTACT: Beverly Johnson, Bureau for Management, Office of Administrative Services, Information and Records Division, U.S. Agency for International Development, Room 2.07-106, RRB, Washington, DC 20523, (202) 712-1365 or via e-mail at bjohnson@usaid.gov.

ADDRESSES: Send comments via e-mail at ssegal@usaid.gov or mail comments to: Sabrina Segal, Office of the General Counsel (A/GC), United States Agency for International Development, Ronald Reagan Building, 1300 Pennsylvania Avenue, NW., Washington, DC 20523, (202) 712-5409.

SUPPLEMENTARY INFORMATION: OMB No: OMB 0412-0581.

Form No.: N/A.

Title: Disaster and Emergency Relief Information.

Type of Review: Renewal of Information Collection.

Purpose: The purpose of this Information Collection is to enable the U.S. Agency for International Development (USAID) to collect information from members of the public as it relates to in-kind donations or expressions of interest to volunteer in response to an international disaster or emergency where USAID has been tasked with relief or recovery responsibilities.

Annual Reporting Burden:

Respondents: 2,000.

Total Annual Responses: 2,000.

Total Annual Hours Requested: 500 hours.

Dated: June 28, 2010.
Roberto Miranda, Director,
Office of Administrative Services, Bureau for Management.

[FR Doc. 2010-16465 Filed 7-7-10; 8:45 am]

BILLING CODE 6116-01-M